FEDERAL RESERVE SYSTEM

Agency Information Collection Activities: Announcement of Board Approval Under Delegated Authority and Submission to OMB

AGENCY: Board of Governors of the Federal Reserve System

ACTION: Notice

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Cindy Ayouch--Division of Research and Statistics, Board of Governors of the Federal Reserve System, Washington, DC 20551 (202-452-3829); OMB Desk Officer--Joseph Lackey--Office of Information and Regulatory Affairs, Office of Management and Budget, New Executive Office Building, Room 10235, Washington, DC 20503.

SUPPLEMENTARY INFORMATION:

Final approval under OMB delegated authority of the extension for three years, without revision, of the following report:

Report title: Interagency Notice of Change in Bank Control, Interagency Notice of Change in Director or Senior Officer, and Interagency Biographical and Financial Report

Agency form number: FR 2081a, FR 2081b, and FR 2018c

OMB Control number: 7100-0134

Frequency: On occasion

Reporters: Financial institutions and certain of their officers and shareholders

Annual reporting hours: Interagency Notice of Change in Bank Control-3,900 hours; Interagency Notice of Change in Director or Senior Officer-130 hours; Interagency Biographical and Financial Report-4,420 hours

Estimated average hours per response: Interagency Notice of Change in Bank Control-30 hours; Interagency Notice of Change in Director or Senior Officer-2 hours; Interagency Biographical and Financial Report-4 hours

Number of respondents: Interagency Notice of Change in Bank Control-130; Interagency Notice of Change in Director or Senior Officer-65; Interagency Biographical and Financial Report-1,105

Small businesses are affected.

General description of report: This information collection is mandatory (12 U.S.C. 1817(j) and 12 U.S.C. 1831(q)) and is not given confidential treatment.

Abstract: The information collected assists the Federal Reserve Board, the Office of the Comptroller of the Currency (OCC), the Federal Deposit Insurance Corporation (FDIC) and the Office of Thrift Supervision (OTS) in fulfilling their statutory responsibilities. These regulatory agencies use the information to evaluate a depository institution's controlling ownership interests and its senior officers and directors. The information collected in the Interagency Notice of Change in Bank Control (FR 2081a) is supplied by persons proposing to make significant investments in bank holding companies or depository institutions. The information collected in the Interagency Notice of Change in Director or Senior Executive Officer (FR 2081b) is required under Section 914 of the Financial Institutions Reform, Recovery, and Enforcement Act of 1989 (FIRREA). The notice is completed, under certain circumstances, by a bank holding company or depository institution making changes in its board of directors or senior executive officers. The Interagency Biographical and Financial Report (FR 2081c) is not a stand-alone report; it is used as a companion report with other reports to gather required information about the individuals involved in certain types of applications and notifications.

Board of Governors of the Federal Reserve System, March 31, 2003.

Jennifer J. Johnson
Secretary of the Board.

[FR Doc. 03-8173 Filed 4-3-03; 8:45 am]

BILLING CODE 6210-01-S